SMALL BUSINESS ADMINISTRATION

New Markets Venture Capital Program; Extension of Application Deadline

AGENCY: U. S. Small Business Administration.

ACTION: Notice of extension of application deadline.

SUMMARY: SBA invites applications for designation as a New Markets Venture Capital (NMVC) Company and for grant awards available both to participants in the NMVC Program and to Specialized Small Business Investment Companies. SBA extends its deadline for accepting applications from 6:00 p.m. on April 19, 2001 to 4:00 p.m. on May 21, 2001. Refer to Notice of Funds Availability published in the Federal Register, 66 FR 7247 (January 22, 2001) for further information about this funding opportunity.

DATES: Applications may be submitted to SBA immediately. The deadline for receipt of an application has been extended to 4:00 p.m. EST on May 21, 2001. Applications received in SBA's offices after that date and time will be rejected and returned to the sender.

ADDRESSES: Applications must be sent to Austin Belton, Director, Office of New Markets Venture Capital, Investment Division, U.S. Small Business Administration, 409 3rd Street, SW, Washington, DC 20416. Applications sent electronically or by facsimile will not be accepted.

FOR FURTHER INFORMATION CONTACT: If you have any questions about the requirements for this program or application procedures, or wish to request an application package, contact Austin Belton, Director, Office of New Markets Venture Capital, 202-205-7027. Applications and other information regarding SBA and its programs may be downloaded from SBA's web site at http://www.sba.gov/inv.

Dated: April 6, 2001.
Harry Haskins,
Acting Associate Administrator for Investment.

[FR Doc. 01-9066 Filed 4-11-01; 8:45 am]

BILLING CODE 8025-01-U